NUCLEAR REGULATORY COMMISSION

[Docket No. 70-0925; NRC-2023-0087]

Cimarron Environmental Response Trust; Cimarron Facility; License Amendment Application

AGENCY: Nuclear Regulatory Commission.

ACTION: Notice; issuance.

SUMMARY: The U.S. Nuclear Regulatory Commission (NRC) reviewed an application by Cimarron Environmental Response Trust (CERT) for amendment of Special Nuclear Material (SNM) License No. SNM-928 which authorizes the possession of byproduct, source, and special nuclear material. This amendment incorporates CERT's proposed revised decommissioning plan into the license.

DATES: The license amendment was issued on December 22, 2024.

ADDRESSES: Please refer to Docket ID NRC-2023-0087 when contacting the NRC about the availability of information regarding this document. You may obtain publicly available information related to this document using any of the following methods:

• Federal Rulemaking Website: Go to https://www.regulations.gov and search for Docket ID NRC-2023-0087. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: James Smith, Office of Nuclear Material Safety and Safeguards, U.S. Nuclear Regulatory Commission, Washington, DC 20555-0001; telephone: 301-415-6103; email: James.Smith@nrc.gov.

SUPPLEMENTARY INFORMATION: By letter dated October 7, 2022, Cimarron Environmental Response Trust (CERT) submitted to the NRC an application (ADAMS Accession No. ML22284A145) to amend Special Nuclear Materials License No. SNM-928, which authorizes the possession of byproduct, source, and special nuclear material. The amendment requests approval of Revision 3 of the proposed facility decommissioning plan (DP) for the Cimarron facility in Guthrie, Oklahoma, and incorporation of DP, Revision 3, into its license, by license amendment. Revision 3 of the DP details the active groundwater remediation plans that specifically target areas for groundwater remediation where the concentration of uranium in groundwater exceeds the NRC criterion in License Condition 27.b. for unrestricted release. In addition, this amendment also revises the license to authorize the possession of Technetium-99 (TC-99) as a contaminant in groundwater, and to distinguish between the possession limit for “in-process” Uranium-235 (U-235) and U-235 in packaged waste that complies with fissile exemption criteria. The license amendment also clarifies the authorized place of use to include subsurface areas where the groundwater exceeds the NRC criterion, and areas where such licensed material will be transported or managed.

After receiving the application, the NRC published a notice of opportunity to request a hearing and to petition for leave to intervene, and in accordance with section 20.1405 of title 10 of the Code of Federal Regulations (10 CFR), requested comments (88 FR 33932). No comments or request for a hearing were submitted. Prior to issuing the amendment (ADAMS Package Accession No. ML24339A701), the NRC performed a review of the application with the determination documented in the Safety Evaluation Report (SER) (ADAMS Accession No. ML24264A155). The NRC also issued an environmental review of the application and published a Federal Register notice of the Environmental Assessment and Finding of No Significant Impact (89 FR 103880).

Upon completing its review of the application, the staff determined the request complies with the standards and requirements of the Atomic Energy Act of 1954, as amended, as well as the NRC's rules and regulations. The NRC approved and issued Amendment 22 to SNM-928, held by CERT to incorporate the DP, Revision 3, into the CERT license. Pursuant to 10 CFR 2.106(a)(1), the NRC is providing notice of the action taken. Amendment 22 was effective as of the date of issuance, December 22, 2024.

Dated: January 23, 2025.
For the Nuclear Regulatory Commission.
Randolph Von Till,
Chief, Uranium Recovery and Materials Decommissioning Branch, Division of Decommissioning, Uranium Recovery and Waste Programs, Office of Nuclear Material Safety and Safeguards.

[FR Doc. 2025-01839 Filed 1-27-25; 8:45 am]

BILLING CODE 7590-01-P